ENVIRONMENTAL PROTECTION AGENCY

40 CFR Part 52

[EPA-R06-OAR-2015-0189; FRL-9997-88-Region 6]

Promulgation of Air Quality Implementation Plans; State of Arkansas; Regional Haze Federal Implementation Plan Revisions; Withdrawal of Portions of the Federal Implementation Plan

AGENCY: Environmental Protection Agency (EPA).

ACTION: Final rule.

SUMMARY: The Environmental Protection Agency (EPA) is amending a Federal Implementation Plan (FIP) that addresses regional haze for the first planning period for Arkansas as it applies to the best available retrofit technology (BART) requirements for sulfur dioxide (SO2) and particulate matter (PM) for seven electric generating units (EGUs) in Arkansas and the SO2 requirements under the reasonable progress provisions. These portions of the FIP will be replaced by the portions of a revision to the Arkansas State Implementation Plan (SIP) that we are taking final action to approve in a separate rulemaking that is published elsewhere in this issue of the Federal Register.

DATES: This final rule is effective October 28, 2019.

ADDRESSES: The EPA has established a docket for this action under Docket No. EPA-R06-OAR-2015-0189. All documents in the dockets are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1201 Elm Street, Suite 500, Dallas, Texas 75270-2102.

FOR FURTHER INFORMATION CONTACT: Dayana Medina, (214) 665-7241; medina.dayana@epa.gov.

SUPPLEMENTARY INFORMATION: Throughout this document wherever “we,” “us,” or “our” is used, we mean the EPA.

Table of Contents

I. What is the background for this action?

II. What Final action is EPA taking?

III. Responses to Comments Received

IV. Statutory and Executive Order Reviews

I. What is the background for this action?

Arkansas submitted a SIP revision on September 9, 2008, to address the requirements of the first regional haze implementation period. On August 3, 2010, Arkansas submitted a SIP revision with mostly non-substantive revisions to Arkansas Pollution Control and Ecology Commission (APCEC) Regulation 19, Chapter 15.¹ On September 27, 2011, the State submitted supplemental information to clarify several aspects of the September 9, 2008 submittal. We are hereafter referring to these regional haze submittals collectively as the “2008 Arkansas Regional Haze SIP.” On March 12, 2012, we partially approved and partially disapproved the 2008 Arkansas Regional Haze SIP.² On September 27, 2016, in accordance with Section 110(c)(1) of the CAA, we promulgated a FIP (the Arkansas Regional Haze FIP) addressing the disapproved portions of the 2008 Arkansas Regional Haze SIP.³ Among other things, the FIP established SO2, nitrogen oxide (NOX), and PM emission limits under the BART requirements for nine units at six facilities: Arkansas Electric Cooperative Corporation (AECC) Bailey Plant Unit 1; AECC McClellan Plant Unit 1; the American Electric Power/Southwestern Electric Power Company (AEP/SWEPCO) Flint Creek Plant Boiler No. 1; Entergy Arkansas, Inc. (Entergy) Lake Catherine Plant Unit 4; Entergy White Bluff Plant Units 1 and 2; Entergy White Bluff Auxiliary Boiler; and the Domtar Ashdown Mill Power Boilers No. 1 and 2. The FIP also established SO2 and NOX emission limits under the reasonable progress requirements for Entergy Independence Units 1 and 2.

¹ The September 9, 2008 SIP submittal included APCEC Regulation 19, Chapter 15, which is the state regulation that identified the BART-eligible and subject-to-BART sources in Arkansas and established BART emission limits for subject-to-BART sources. The August 3, 2010 SIP revision did not revise Arkansas' list of BART-eligible and subject-to-BART sources or revise any of the BART requirements for affected sources. Instead, it included mostly non-substantive revisions to the state regulation.

² 77 FR 14604.

³ 81 FR 66332; see also 81 FR 68319 (October 4, 2016) (correction).

Following the issuance of the Arkansas Regional Haze FIP, the State of Arkansas and several industry parties filed petitions for reconsideration and a motion for an administrative stay of the final rule.⁴ On April 14, 2017, we announced our decision to reconsider several elements of the FIP, as follows: appropriate compliance dates for the NOX emission limits for Flint Creek Boiler No. 1, White Bluff Units 1 and 2, and Independence Units 1 and 2; the low-load NOX emission limits applicable to White Bluff Units 1 and 2 and Independence Units 1 and 2 during periods of operation at less than 50 percent of the units' maximum heat input rating; the SO2 emission limits for White Bluff Units 1 and 2; and the compliance dates for the SO2 emission limits for Independence Units 1 and 2.⁵

⁴ See the docket associated with this proposed rulemaking for a copy of the petitions for reconsideration and administrative stay submitted by the State of Arkansas; Entergy Arkansas Inc., Entergy Mississippi Inc., and Entergy Power LLC (collectively “Entergy”); AECC; and the Energy and Environmental Alliance of Arkansas (EEAA).

⁵ Letter from E. Scott Pruitt, Administrator, EPA, to Nicholas Jacob Bronni and Jamie Leigh Ewing, Arkansas Attorney General's Office (April 14, 2017). A copy of this letter is included in the docket, https://www.regulations.gov/document?D=EPA-R06-OAR-2015-0189-0240.

EPA also published a notice in the Federal Register on April 25, 2017, which administratively stayed the effectiveness of the NOX compliance dates in the FIP for the Flint Creek, White Bluff, and Independence units, as well as the compliance dates for the SO2 emission limits for the White Bluff and Independence units for a period of 90 days.⁶ On July 13, 2017, the EPA published a notice proposing to extend the NOX compliance dates for Flint Creek Boiler No. 1, White Bluff Units 1 and 2, and Independence Units 1 and 2, by 21 months, to January 27, 2020.⁷ However, EPA did not take final action on the July 13, 2017 proposed rule because on July 12, 2017, Arkansas submitted a proposed SIP revision with a request for parallel processing (Arkansas Regional Haze NOX SIP revision or Arkansas NOX SIP revision). The State's proposed revision addressed the NOX BART requirements for Bailey Unit 1, McClellan Unit 1, Flint Creek Boiler No. 1, Lake Catherine Unit 4, White Bluff Units 1 and 2, and White Bluff Auxiliary Boiler, as well as the reasonable progress requirements with respect to NOX. We processed this proposed SIP revision in parallel with the state's SIP approval process and, in a proposed rule published in the Federal Register on September 11, 2017, we proposed approval of the Arkansas Regional Haze NOX SIP revision and withdrawal of the corresponding parts of the Arkansas Regional Haze FIP.⁸ On October 31, 2017, we received ADEQ's final Regional Haze NOX SIP revision addressing NOX BART for EGUs and the reasonable progress requirements with respect to NOX for the first implementation period. On February 12, 2018, we finalized our approval of the Arkansas Regional Haze NOX SIP revision and our withdrawal of the corresponding parts of the FIP.⁹

⁶ 82 FR 18994.

⁷ 82 FR 32284.

⁸ 82 FR 42627.

⁹ 83 FR 5927 and 83 FR 5915 (February 12, 2018).

On August 8, 2018, Arkansas submitted another SIP revision (Arkansas Regional Haze SO2 and PM SIP revision or Phase II SIP revision) addressing all remaining disapproved parts of the 2008 Regional Haze SIP, with the exception of the BART and associated long-term strategy requirements for the Domtar Ashdown Mill Power Boilers No. 1 and 2. The Phase II SIP revision also included a discussion on Arkansas' interstate visibility transport requirements. In a proposed rule published in the Federal Register on November 30, 2018, we proposed approval of a portion of the SIP revision and we also proposed to withdraw the parts of the FIP corresponding to our proposed approvals.¹⁰ We stated in our proposed rule that we intended to propose action on the portion of the SIP revision discussing the interstate visibility transport requirements in a future proposed rulemaking. Since we proposed to withdraw certain portions of the FIP, we also proposed to revise the numbering of certain paragraphs under section 40 CFR 52.173 of the FIP. In a final action being published separately in today's Federal Register, we are taking final action to approve the Arkansas Regional Haze SO2 and PM SIP revision.

¹⁰ 83 FR 62204 (November 30, 2018).

The background for this final rule and the separate final action also being published today that approves the Arkansas Regional Haze SO2 and PM SIP revision is also discussed in detail in our November 30, 2018 proposal.¹¹ The comment period was open for 30 days, and we received comments from four commenters in response to our proposed action.

¹¹ 83 FR 62204.

II. What final action is EPA taking?

We are withdrawing the majority of the Arkansas Regional Haze FIP that we promulgated on September 27, 2016. Specifically, we are withdrawing the following components of the FIP at 40 CFR 52.173: The SO2 and PM BART emission limits for Bailey Unit 1; the SO2 and PM BART emission limits for McClellan Unit 1; the SO2 BART emission limit for Flint Creek Boiler No. 1; the SO2 BART emission limits for White Bluff Units 1 and 2; the SO2 and PM BART emission limits for the White Bluff Auxiliary Boiler; the prohibition on burning fuel oil at Lake Catherine Unit 4; and the SO2 emission limits for Independence Units 1 and 2 under the reasonable progress provisions. Therefore, we are removing these SO2 and PM emission limitations and associated requirements for Arkansas EGUs from 40 CFR 52.173(c), and as of the effective date of this final rule they will no longer apply to the nine aforementioned units. Since we are withdrawing certain portions of the FIP, we are also revising the numbering of certain paragraphs under section 40 CFR 52.173 of the FIP. Our renumbering of these paragraphs is non-substantive in nature. The provisions of the Arkansas Regional Haze FIP addressing the Domtar Ashdown Mill are unaffected by this action and the Domtar Ashdown Mill is the only remaining facility subject to the FIP.

As explained in our November 30, 2018 proposal,¹² this action is based on our separate action being published in today's Federal Register to approve the Arkansas Regional Haze SO2 and PM SIP revision submitted to us on August 8, 2018. In that separate action, EPA is making the determination that the Arkansas Regional Haze SO2 and PM SIP revision is approvable because the plan's provisions meet the applicable requirements of the CAA and EPA implementing regulations. EPA is finalizing this action under section 110 and part C of the Act.

¹² 83 FR 62204.

III. Responses to Comments Received

We received several comment letters concerning our proposed action, which included both our proposed approval of the portions of the Phase II SIP revision listed in the previous section and proposed withdrawal of the FIP provisions addressing the requirements for which we were proposing SIP approval. EPA did not receive any comments specifically on withdrawal of the FIP provisions; rather, the comments addressed EPA's proposed approval of the SIP provisions that would replace the FIP. Therefore, we have responded to all relevant comments in response to our proposed action in a separate, final notice published elsewhere in this issue of the Federal Register that approves the Arkansas Regional Haze SO2 and PM SIP revision and/or in a separate document titled the “Arkansas Regional Haze Phase II SIP Revision Response to Comments,” which can be found in the docket associated with this final rulemaking.¹³ Copies of the comments are also available in the docket for this rulemaking.

¹³ Please see Docket No. EPA-R06-OAR-2015-0189 in the regulations.gov website.

V. Statutory and Executive Order Reviews

Additional information about these statutes and Executive Orders can be found at http://www2.epa.gov/lawsregulations/laws-and-executive-orders.

A. Executive Order 12866: Regulatory Planning and Review and Executive Order 13563: Improving Regulation and Regulatory Review

This action is not a significant regulatory action and was therefore not submitted to the Office of Management and Budget (OMB) for review. This final rule revises a FIP to withdraw source-specific SO2 and PM emission limits for only six individually identified facilities in Arkansas and is therefore not a rule of general applicability.

B. Executive Order 13771: Reducing Regulations and Controlling Regulatory Costs

This action is not an Executive Order 13771 regulatory action because this action is not significant under Executive Order 12866.

C. Paperwork Reduction Act (PRA)

This action does not impose an information collection burden under the provisions of the PRA. Burden is defined at 5 CFR 1320.3(b). This final rule revises a FIP to withdraw source-specific SO2 and PM emission limits for six individually identified facilities in Arkansas.

D. Regulatory Flexibility Act (RFA)

I certify that this final action will not have a significant economic impact on a substantial number of small entities under the RFA. This final action will not impose any requirements on small entities. This final action revises a FIP to withdraw source-specific SO2 and PM emission limits that apply to six individually identified power plants in Arkansas.

E. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications, as specified in Executive Order 13175, because this partial FIP withdrawal does not apply on any Indian reservation land or in any other area where the EPA or an Indian tribe has demonstrated that a tribe has jurisdiction, and will not impose substantial direct costs on tribal governments or preempt tribal law. This final action revises a FIP to withdraw source-specific SO2 and PM emission limits that apply to six individually identified power plants in Arkansas. There are no Indian reservation lands in Arkansas. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions That Significantly Affect Energy Supply, Distribution, or Use

This action is not subject to Executive Order 13211, because it is not a significant regulatory action under Executive Order 12866.

J. National Technology Transfer and Advancement Act (NTTAA)

This rulemaking does not involve technical standards.

K. Executive Order 12898: Federal Actions To Address Environmental Justice in Minority Populations and Low-Income Populations

The EPA believes the human health or environmental risk addressed by this action will not have potentially disproportionately high and adverse human health or environmental effects on minority, low-income or indigenous populations.

L. Determination Under Section 307(d)

Pursuant to CAA section 307(d)(1)(B), this action is subject to the requirements of CAA section 307(d), as it revises a FIP under CAA section 110(c).

M. Congressional Review Act (CRA)

This rule is exempt from the CRA because it is a rule of particular applicably. EPA is not required to submit a rule report regarding this action under section 801 because this is a rule of particular applicability that only affects six individually identified facilities in Arkansas.

N. Petitions for Judicial Review

Under section 307(b)(1) of the Clean Air Act, petitions for judicial review of this action must be filed in the United States Court of Appeals for the appropriate circuit by November 26, 2019. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Best available retrofit technology, Incorporation by reference, Intergovernmental relations, Ozone, Particulate Matter, Regional haze, Reporting and recordkeeping requirements, Sulfur Dioxide, Visibility.

Dated: September 9, 2019.
Andrew R. Wheeler,
Administrator.

Title 40, chapter I, of the Code of Federal Regulations is amended as follows:

PART 52—APPROVAL AND PROMULGATION OF IMPLEMENTATION PLANS

1. The authority citation for part 52 continues to read as follows:

Authority: 42 U.S.C. 7401 et seq.

Subpart E—Arkansas

2. Section 52.173 is amended:

a. By revising paragraphs (c) introductory text and (c)(1);

b. In paragraph (c)(2), by revising the definition of “Boiler-operating-day”;

c. By removing paragraphs (c)(3) through (12) and (22) through (24);

d. By redesignating paragraphs (c)(13) through (21) as paragraphs (c)(3) through (11) and paragraphs (c)(25) through (27) as paragraphs (c)(12) through (14); and

f. By revising newly redesignated paragraphs (c)(4), (5), (7), (8), (10), and (11).

The revisions read as follows:

§ 52.173 Visibility protection.

* * * * *

(c) Federal implementation plan for regional haze. Requirements for Domtar Ashdown Paper Mill Power Boilers No. 1 and 2 affecting visibility.

(1) Applicability. The provisions of this section shall apply to each owner or operator, or successive owners or operators of the sources designated as Domtar Ashdown Paper Mill Power Boilers No. 1 and 2.

(2) * * *

Boiler-operating-day means a 24-hr period between 6 a.m. and 6 a.m. the following day during which any fuel is fed into and/or combusted at any time in the power boiler.

* * * * *

(4) Compliance dates for Domtar Ashdown Mill Power Boiler No. 1. The owner or operator of the boiler must comply with the SO2 and NOX emission limits listed in paragraph (c)(3) of this section by November 28, 2016.

(5) Compliance determination and reporting and recordkeeping requirements for Domtar Ashdown Paper Mill Power Boiler No. 1. (i)(A) SO2 emissions resulting from combustion of fuel oil shall be determined by assuming that the SO2 content of the fuel delivered to the fuel inlet of the combustion chamber is equal to the SO2 being emitted at the stack. The owner or operator must maintain records of the sulfur content by weight of each fuel oil shipment, where a “shipment” is considered delivery of the entire amount of each order of fuel purchased. Fuel sampling and analysis may be performed by the owner or operator, an outside laboratory, or a fuel supplier. All records pertaining to the sampling of each shipment of fuel oil, including the results of the sulfur content analysis, must be maintained by the owner or operator and made available upon request to EPA and ADEQ representatives. SO2 emissions resulting from combustion of bark shall be determined by using the following site-specific curve equation, which accounts for the SO2 scrubbing capabilities of bark combustion:

Y= 0.4005 * X—0.2645

Where:

Y= pounds of sulfur emitted per ton of dry fuel feed to the boiler.

X= pounds of sulfur input per ton of dry bark.

(B) The owner or operator must confirm the site-specific curve equation through stack testing. By October 27, 2017, the owner or operator must provide a report to EPA showing confirmation of the site specific-curve equation accuracy. Records of the quantity of fuel input to the boiler for each fuel type for each day must be compiled no later than 15 days after the end of the month and must be maintained by the owner or operator and made available upon request to EPA and ADEQ representatives. Each boiler-operating-day of the 30-day rolling average for the boiler must be determined by adding together the pounds of SO2 from that boiler-operating-day and the preceding 29 boiler-operating-days and dividing the total pounds of SO2 by the sum of the total number of boiler operating days (i.e., 30). The result shall be the 30 boiler-operating-day rolling average in terms of lb/day emissions of SO2. Records of the total SO2 emitted for each day must be compiled no later than 15 days after the end of the month and must be maintained by the owner or operator and made available upon request to EPA and ADEQ representatives. Records of the 30 boiler-operating-day rolling averages for SO2 as described in this paragraph (c)(5)(i) must be maintained by the owner or operator for each boiler-operating-day and made available upon request to EPA and ADEQ representatives.

(ii) If the air permit is revised such that Power Boiler No. 1 is permitted to burn only pipeline quality natural gas, this is sufficient to demonstrate that the boiler is complying with the SO2 emission limit under paragraph (c)(3) of this section. The compliance determination requirements and the reporting and recordkeeping requirements under paragraph (c)(5)(i) of this section would not apply and confirmation of the accuracy of the site-specific curve equation under paragraph (c)(5)(i)(B) of this section through stack testing would not be required so long as Power Boiler No. 1 is only permitted to burn pipeline quality natural gas.

(iii) To demonstrate compliance with the NOX emission limit under paragraph (c)(3) of this section, the owner or operator shall conduct stack testing using EPA Reference Method 7E, found at 40 CFR part 60, appendix A, once every 5 years, beginning 1 year from the effective date of our final rule, which corresponds to October 27, 2017. Records and reports pertaining to the stack testing must be maintained by the owner or operator and made available upon request to EPA and ADEQ representatives.

(iv) If the air permit is revised such that Power Boiler No. 1 is permitted to burn only pipeline quality natural gas, the owner or operator may demonstrate compliance with the NOX emission limit under paragraph (c)(3) of this section by calculating NOX emissions using fuel usage records and the applicable NOX emission factor under AP-42, Compilation of Air Pollutant Emission Factors, section 1.4, Table 1.4-1. Records of the quantity of natural gas input to the boiler for each day must be compiled no later than 15 days after the end of the month and must be maintained by the owner or operator and made available upon request to EPA and ADEQ representatives. Records of the calculation of NOX emissions for each day must be compiled no later than 15 days after the end of the month and must be maintained by the owner or operator and made available upon request to EPA and ADEQ representatives. Each boiler-operating-day of the 30-day rolling average for the boiler must be determined by adding together the pounds of NOX from that day and the preceding 29 boiler-operating-days and dividing the total pounds of NOX by the sum of the total number of hours during the same 30 boiler-operating-day period. The result shall be the 30 boiler-operating-day rolling average in terms of lb/hr emissions of NOX. Records of the 30 boiler-operating-day rolling average for NOX must be maintained by the owner or operator for each boiler-operating-day and made available upon request to EPA and ADEQ representatives. Under these circumstances, the compliance determination requirements and the reporting and recordkeeping requirements under paragraph (c)(5)(iii) of this section would not apply.

* * * * *

(7) SO2 and NOX Compliance dates for Domtar Ashdown Mill Power Boiler No. 2. The owner or operator of the boiler must comply with the SO2 and NOX emission limits listed in paragraph (c)(6) of this section by October 27, 2021.

(8) SO2 and NOX Compliance determination and reporting and recordkeeping requirements for Domtar Ashdown Mill Power Boiler No. 2. (i) NOX and SO2 emissions for each day shall be determined by summing the hourly emissions measured in pounds of NOX or pounds of SO2. Each boiler-operating-day of the 30-day rolling average for the boiler shall be determined by adding together the pounds of NOX or SO2 from that day and the preceding 29 boiler-operating-days and dividing the total pounds of NOX or SO2 by the sum of the total number of hours during the same 30 boiler-operating-day period. The result shall be the 30 boiler-operating-day rolling average in terms of lb/hr emissions of NOX or SO2. If a valid NOX pounds per hour or SO2 pounds per hour is not available for any hour for the boiler, that NOX pounds per hour shall not be used in the calculation of the 30 boiler-operating-day rolling average for NOX. For each day, records of the total SO2 and NOX emitted for that day by the boiler must be maintained by the owner or operator and made available upon request to EPA and ADEQ representatives. Records of the 30 boiler-operating-day rolling average for SO2 and NOX for the boiler as described in this paragraph (c)(8)(i) must be maintained by the owner or operator for each boiler-operating-day and made available upon request to EPA and ADEQ representatives.

(ii) The owner or operator shall continue to maintain and operate a CEMS for SO2 and NOX on the boiler listed in paragraph (c)(6) of this section in accordance with 40 CFR 60.8 and 60.13(e), (f), and (h), and appendix B of 40 CFR part 60. The owner or operator shall comply with the quality assurance procedures for CEMS found in 40 CFR part 60. Compliance with the emission limits for SO2 and NOX shall be determined by using data from a CEMS.

(iii) Continuous emissions monitoring shall apply during all periods of operation of the boiler listed in paragraph (c)(6) of this section, including periods of startup, shutdown, and malfunction, except for CEMS breakdowns, repairs, calibration checks, and zero and span adjustments. Continuous monitoring systems for measuring SO2 and NOX and diluent gas shall complete a minimum of one cycle of operation (sampling, analyzing, and data recording) for each successive 15-minute period. Hourly averages shall be computed using at least one data point in each fifteen-minute quadrant of an hour. Notwithstanding this requirement, an hourly average may be computed from at least two data points separated by a minimum of 15 minutes (where the unit operates for more than one quadrant in an hour) if data are unavailable as a result of performance of calibration, quality assurance, preventive maintenance activities, or backups of data from data acquisition and handling system, and recertification events. When valid SO2 or NOX pounds per hour emission data are not obtained because of continuous monitoring system breakdowns, repairs, calibration checks, or zero and span adjustments, emission data must be obtained by using other monitoring systems approved by the EPA to provide emission data for a minimum of 18 hours in each 24-hour period and at least 22 out of 30 successive boiler operating days.

(iv) If the air permit is revised such that Power Boiler No. 2 is permitted to burn only pipeline quality natural gas, this is sufficient to demonstrate that the boiler is complying with the SO2 emission limit under paragraph (c)(6) of this section. Under these circumstances, the compliance determination requirements under paragraphs (c)(8)(i) through (iii) of this section would not apply to the SO2 emission limit listed in paragraph (c)(6) of this section.

(v) If the air permit is revised such that Power Boiler No. 2 is permitted to burn only pipeline quality natural gas and the operation of the CEMS is not required under other applicable requirements, the owner or operator may demonstrate compliance with the NOX emission limit under paragraph (c)(6) of this section by calculating NOX emissions using fuel usage records and the applicable NOX emission factor under AP-42, Compilation of Air Pollutant Emission Factors, section 1.4, Table 1.4-1. Records of the quantity of natural gas input to the boiler for each day must be compiled no later than 15 days after the end of the month and must be maintained by the owner or operator and made available upon request to EPA and ADEQ representatives. Records of the calculation of NOX emissions for each day must be compiled no later than 15 days after the end of the month and must be maintained and made available upon request to EPA and ADEQ representatives. Each boiler-operating-day of the 30-day rolling average for the boiler must be determined by adding together the pounds of NOX from that day and the preceding 29 boiler-operating-days and dividing the total pounds of NOX by the sum of the total number of hours during the same 30 boiler-operating-day period. The result shall be the 30 boiler-operating-day rolling average in terms of lb/hr emissions of NOX. Records of the 30 boiler-operating-day rolling average for NOX must be maintained by the owner or operator for each boiler-operating-day and made available upon request to EPA and ADEQ representatives. Under these circumstances, the compliance determination requirements under paragraphs (c)(8)(i) through (iii) of this section would not apply to the NOX emission limit.

* * * * *

(10) PM compliance dates for Domtar Ashdown Mill Power Boiler No. 2. The owner or operator of the boiler must comply with the PM BART requirement listed in paragraph (c)(9) of this section by November 28, 2016.

(11) Alternative PM Compliance Determination for Domtar Ashdown Paper Mill Power Boiler No. 2. If the air permit is revised such that Power Boiler No. 2 is permitted to burn only pipeline quality natural gas, this is sufficient to demonstrate that the boiler is complying with the PM BART requirement under paragraph (c)(9) of this section.

* * * * *

[FR Doc. 2019-19877 Filed 9-26-19; 8:45 am]

BILLING CODE 6560-50-P